DEPARTMENT OF AGRICULTURE

Forest Service

Lassen National Forest, Almanor Ranger District, California, Creeks Forest Health Recovery Project

AGENCY: Forest Service, USDA.

ACTION: Notice of intent.

SUMMARY: The Forest Service proposes to develop a network of defensible fuel profile zones (DFPZ's), establish group selection harvest units, and conduct area thinnings on the Almanor Ranger District in the Lassen National Forest. The DFPZ's, group selection harvest units, and area thinnings total an estimated 5,905, 1,245, and 3,285 acres respectively, and are spread over a 33,000 acre project area. Included in this proposal are the use of National Forest system roads, the use of temporary roads, and the decommissioning of some system and temporary roads. The project would be implemented through a combination of commercial timber sales, service contracts, and force account crews. These management activities were developed to implement and be consistent with the Lassen National Forest (LNF) Land and Resource Management Plan (LRMP, 1993), as amended by the Herger-Feinstein Quincy Library Group Forest Recovery Act FEIS, FSEIS, and ROD's (1999, 2003), and the Sierra Nevada Forest Plan Amendment FEIS, FSEIS, and ROD's (2001, 2004).

Decision to Be Made: The decision to be made is whether to implement the proposed action as described above, to meet the purpose and need for action through some other combination of activities, or to take no action at this time.

Scoping Process: Comments concerning the scope of the analysis should be received in writing within 15 days of the date of publication of this Notice of Intent in the Federal Register.

The project was initially listed in the Forest's February 2004 quarterly edition of the Schedule of Proposed Actions (SOPA). Scoping letters were sent in June 2004 to those who responded to the SOPA and other identified interest and affected individuals and government agencies. In the SOPA, the mode of environmental documentation was predicted as an environmental assessment.

At this time, the environmental analysis will be documented in an environmental impact statement. Since only minor changes are being made to the proposed action that was previously scoped, the scoping period at this time is brief. Those who responded during the June 2004 scoping period will be contacted again. In addition, scoping letters previously received by the Forest Service from the first scoping period will continue to be used for this process. A public scoping meeting is not anticipated at this time.

The scoping process will be used to identify issues regarding the proposed action. An issue is defined as point of dispute, debate, or disagreement related to a specific proposed action based on its anticipated effects. Significant issues brought to our attention are used during an environmental analysis to develop alternatives to the proposed action. Some issues raised in scoping may be considered non-significant because they are: (1) Beyond the scope of the proposed action and its purpose and need; (2) already decided by law, regulation, or the Land and Resource Management Plan; (3) irrelevant to the decision to be made; or (4) conjectural and not supported by scientific or factual evidence.

Alternatives: Alternatives proposed to date are the Proposed Action as described above and the No Action.

Identification of Permits or Licenses Required: No permits or licenses have been identified to implement the proposed action.

Lead, Joint Lead, and Cooperating Agencies: The USDA Forest Service is the lead agency for this proposal; there are no cooperating agencies.

Estimated Dates for Filing: The expected filing date with the Environmental Protection Agency for the draft EIS April 18, 2005. The expected filing date for the final EIS is June 27, 2005.

Person to Which Comments May be Mailed: Comments may be submitted to: Alfred Vazquez District Ranger, Almanor Ranger District, at P.O. Box 767, Chester, CA, 96020 or (530) 258-5194 (fax) during normal business hours. The Almanor Ranger District business hours are from 8 am to 4:30 pm Monday through Friday. Electronic comments, in acceptable plain text (.txt), rich text (.rtf), or Word (.doc) formats, may be submitted to: comments-pacificsouthwest-lassen-almanor@fs.fed.us using Subject: Creeks Forest Health Recovery Project.

Reviewer's Obligation to Comment: The comment period on the draft EIS will be 45 days from the date the Environmental Protection Agency publishes the notice of availability of the draft EIS in the Federal Register.

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposal action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

FOR FURTHER INFORMATION CONTACT: Al Vazquez, District Ranger or Robin Bryant, Interdisciplinary Team Leader may be contacted by phone at (530) 258-2141 for more information about the proposed action and the environmental impact statement or at the Almanor Ranger District, P.O. Box 767, Chester, CA 96020.

Responsible Official and Mailing Address: Laurie Tippin, Forest Supervisor, 2550 S. Riverside Drive, Susanville, CA 96130 is the responsible official.

Dated: February 22, 2005.
Laurie Tippin,
Forest Supervisor, Lassen National Forest.

[FR Doc. 05-3746 Filed 2-25-05; 8:45 am]

BILLING CODE 5410-99-M